DEPARTMENT OF AGRICULTURE

Forest Service

Siuslaw Resource Advisory Committee Meetings

AGENCY: Forest Service, USDA.

ACTION: Notice of meetings.

SUMMARY: The Siuslaw Resource Advisory Committee (RAC) will meet in Corvallis, Oregon. The committee is authorized under the Secure Rural Schools and Community Self-Determination Act (Pub. L. 110-343) (the Act) and operates in compliance with the Federal Advisory Committee Act. The purpose of the committee is to improve collaborative relationships and to provide advice and recommendations to the Forest Service concerning projects and funding consistent with Title II of the Act. The meetings are open to the public. The purpose of the meetings is to recommend projects for Title II funding.

DATES: The meetings will be held from 9 a.m. to 5 p.m. on the following dates:

• May 8, 2014

• May 28, 2014

• June 6, 2014

All RAC meetings are subject to cancellation. For status of meeting prior to attendance, please contact the person listed under For Further Information Contact.

ADDRESSES: The meeting will be held at Siuslaw National Forest Headquarters, Conference Room 20 A, 3200 SW Jefferson Way, Corvallis, Oregon 97331.

Written comments may be submitted as described under SUPPLEMENTARY INFORMATION. All comments, including names and addresses when provided, are placed in the record and are available for public inspection and copying. The public may inspect comments received at Siuslaw National Forest Headquarters. Please call ahead to facilitate entry into the building.

FOR FURTHER INFORMATION CONTACT: Joni Quarnstrom, RAC Coordinator, by phone at 541-750-7075 or via email at jquarnstrom@fs.fed.us.

Individuals who use telecommunication devices for the deaf (TDD) may call the Federal Information Relay Service (FIRS) at 1-800-877-8339 between 8 a.m. and 8 p.m., Eastern Standard Time, Monday through Friday. Please make requests in advance for sign language interpreting, assistive listening devices or other reasonable accommodation for access to the facility or procedings by contacting the person listed above.

SUPPLEMENTARY INFORMATION: Additional RAC information, including the meeting agenda and the meeting summary/minutes can be found at the following Web site: www.fs.usda.gov/siuslaw/rac. The agenda will include time for people to make oral statements of three minutes or less. Individuals wishing to make an oral statement should request in writing at least 2 days before the meeting date to be scheduled on the agenda. Anyone who would like to bring related matters to the attention of the committee may file written statements with the committee staff before or after the meeting. Written comments and requests for time for oral comments must be sent to Joni Quarnstrom, RAC Coordinator, Siuslaw National Forest Headquarters, 3200 SW Jefferson Way, Corvallis, Oregon 97331; or by email to jquarnstrom@fs.fed.us or via facsimile to 541-750-7234.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: March 26, 2014.
Jeremiah C. Ingersoll,
Forest Supervisor.

[FR Doc. 2014-07437 Filed 4-3-14; 8:45 am]

BILLING CODE 3411-15-P